DEPARTMENT OF VETERANS AFFAIRS

[OMB Control No. 2900-NEW]

Agency Information Collection Activity: Application for High-Technology Veterans Education, Training and Skills (VET TEC 2.0) Program

AGENCY: Veterans Benefits Administration, Department of Veterans Affairs.

ACTION: Notice.

SUMMARY: Veterans Benefits Administration, Department of Veterans Affairs (VA), is announcing an opportunity for public comment on the proposed collection of certain information by the agency. Under the Paperwork Reduction Act (PRA) of 1995, Federal agencies are required to publish notice in the Federal Register concerning each proposed collection of information, including each proposed revision of a currently approved collection, and allow 60 days for public comment in response to the notice.

DATES: Comments must be received on or before March 13, 2026.

ADDRESSES: Comments must be submitted through www.regulations.gov.

FOR FURTHER INFORMATION CONTACT:

Program-Specific information: Kendra McCleave, 202-495-8241, kendra.mccleave@va.gov.

VA PRA information: Dorothy Glasgow, 202-461-1084, VAPRA@va.gov.

SUPPLEMENTARY INFORMATION: Under the PRA of 1995, Federal agencies must obtain approval from the Office of Management and Budget (OMB) for each collection of information they conduct or sponsor. This request for comment is being made pursuant to Section 3506(c)(2)(A) of the PRA.

With respect to the following collection of information, VBA invites comments on: (1) whether the proposed collection of information is necessary for the proper performance of VBA's functions, including whether the information will have practical utility; (2) the accuracy of VBA's estimate of the burden of the proposed collection of information; (3) ways to enhance the quality, utility, and clarity of the information to be collected; and (4) ways to minimize the burden of the collection of information on respondents, including through the use of automated collection techniques or the use of other forms of information technology.

Title: Application For Veteran Employment Through Technology Education Courses (VET TEC 2.0) High Technology Program, VA Form 22-10297.

OMB Control Number: 2900-NEW. https://www.reginfo.gov/public/do/PRASearch (Once at this link, you can enter the OMB Control Number to find the historical versions of this Information Collection).

Type of Review: New Collection.

Abstract: On January 2, 2025, the Elizabeth Dole Field and Community Based Services for Veterans and Caregivers Act (Pub. L. 118-210) was signed into law. The legislation can be identified as the DOLE Act. This legislation established a new Veteran Technology program titled “High-Technology Veterans Education, Training and Skills (VET TEC 2.0) Program”. VET TEC 2.0 allows Veterans to enroll in courses outside the traditional definition of higher education to obtain skillsets highly desired by employers. The DOLE Act authorizes VA to provide educational assistance for these high technology programs of education that begin prior to September 30, 2027.

The eligibility requirements to qualify for the program apply to an individual who is a Veteran under age 62 who has served at least 3 years (36 months) on Active Duty; or a Service member who is within 180 days of discharge who has or will serve 3 years (36 months) by their discharge date; and who has received a discharge under conditions other than dishonorable.

The DOLE Act requires VA to develop a mechanism for Veteran application for VET TEC 2.0, to include selection of a specific training provider and program. It also requires VA to develop enrollment processing mechanisms and the ability to track the number of enrollees in real time due to annual participation limits. Lastly, VA must submit a report to Congress no later than January 2, 2026, and each year thereafter on the operation of the program.

The VA Form 22-10297 allows students to apply for the new High-Technology Veterans Education, Training and Skills (VET TEC 2.0) Program. This new information collection is being used to implement section 212 of Public Law 118-210 to provide Veterans the opportunity to enroll in high technology programs. The VA requires approval of this information collection to allow eligible individuals to apply to enroll with a qualified training provider and to allow VA to track the number of annual participants.

Affected Public: Individuals and households.

Estimated Annual Burden: 667 hours.

Estimated Average Burden per Respondent: 10 minutes.

Frequency of Response: Once.

Estimated Number of Respondents: 4,000.

Authority: 44 U.S.C. 3501 et seq.

Lanea Haynes,
Acting, VA PRA Clearance Officer, (Alt) Office of Information Technology/Data Governance Analytics, Department of Veterans Affairs.

[FR Doc. 2026-00373 Filed 1-9-26; 8:45 am]

BILLING CODE 8320-01-P